DEPARTMENT OF TRANSPORTATION

Maritime Administration

[Docket Number MARAD-2001-10394]

Requested Administrative Waiver of the Coastwise Trade Laws

AGENCY: Maritime Administration, Department of Transportation.

ACTION: Invitation for public comments on a requested administrative waiver of the Coastwise Trade Laws for the vessel CHALLENGE BUSINESS 36.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before September 17, 2001.

ADDRESSES: Comments should refer to docket number MARAD-2001-10394. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: CHALLENGE BUSINESS 36. Owner: Challenge Business, Ltd.

(2) Size, capacity and tonnage of vessel. According to the applicant: “The yacht is 53.9′ long, has a breadth of 15.22′ and a depth of 8.37′. Her current certificate shows that she has a gross tonnage of 41.8 and a net tonnage of 41.8″.

(3) Intended use for vessel, including geographic region of intended operation and trade. According to the applicant: “The yacht will be used to generate interest in sailing boats of this type around the world in a race called the New World Challenge 2002. Ordinary people, from all walks of life, will become members of the crew on eight slightly larger boats that will sail from Southampton, United Kingdom, to New York, down the East Coasts of North and South America, around Cape Horn, and up the West coasts of South and North America to San Francisco. The interest, love and excitement of sailing such boats, in difficult conditions, over a period of approximately seven months, will be supported by a number of corporate sponsors who expect to benefit from the team building aspect of the race and the publicity that the race will generate.

To foster interest in the race among potential sponsors and supporters of the race, the yacht will be used as an information and training platform. The owner intends to take members of the press, other media, potential and actual sponsors and supporters of the race, and their guests, on the boat to experience what it will be like to sail a boat of this type in this race. None of the press, media, and supporters will be asked to pay anything for sailing aboard this yacht. But, we have been advised that unless the boats sail “voyages to nowhere” (i.e. three miles from port and back again), that some of these activities would be violative of U.S. coastwise laws. For this reason we make this Application.

This yacht will be based in Boston and may be sailed to various places on the East Coast of the United States.”

(4) Date and Place of construction and (if applicable) rebuilding. Date of construction: May 1998. Place of construction: United Kingdom.

(5) A statement on the impact this waiver will have on other commercial passenger vessel operators. According to the applicant: “This activity will have absolutely no impact on the operations of any commercial passenger operations. As stated, no income will be derived from the use of this yacht as an informational and sail training platform. This boat had been used in another, similar race promoted by Challenge Business. The yacht is very similar in size, design, sail area and handling characteristics to the eight boats that will be competing in the race. Thus, it is one of the most representative, “experienced”, boats that could be used for the intended purpose. Further, this boat and the others employed in the Challenge Business race are very unique. This project brings together ordinary people, the corporate and non-profit communities, and fully involves them in sailing one-design-boats in a sailing experience that is not duplicated by anyone else in the world.”

(6) A statement on the impact this waiver will have on U.S. shipyards. According to the applicant: “Similarly, the proposed activity will have absolutely no impact on U.S. shipyards. This yacht is uniquely valuable in that it has been raced under similar conditions, in a similar race while manned by individuals who had little, if any, sailing experience, before sailing aboard such a yacht. This yacht most accurately represents the look, feel and impact that the eight yachts in the race will have on the sailors, media, press, sponsors and supporters. Given its historical connection to a similar race, no newly built U.S. yacht could perform the proposed activity. Further, we are not aware of any similar yacht currently under construction in the U.S.”

Dated: August 13, 2001.
By Order of the Maritime Administrator.
Joel C. Richard,
Secretary, Maritime Administration.

[FR Doc. 01-20737 Filed 8-16-01; 8:45 am]

BILLING CODE 4910-81-P